DEPARTMENT OF ENERGY

Federal Energy Regulatory Commission

Combined Notice of Filings

Take notice that the Commission has received the following Natural Gas Pipeline Rate and Refund Report filings:

Filings Instituting Proceedings

Docket Numbers: PR15-10-001.

Applicants: Southcross Nueces Pipelines LLC.

Description: Submits tariff filing per 284.123(b), (e), (g): Amendment to be effective 2/6/2015; TOFC: 1270.

Filed Date: 2/6/15.

Accession Number: 20150206-5139.

Comments Due: 5 p.m. ET 2/27/15.

284.123(g) Protests Due: 5 p.m. ET 2/27/15.

Docket Numbers: PR15-19-000.

Applicants: Liberty Utilities (Midstates Natural Gas) Corp.

Description: Tariff filing per 284.123(b)(1),: Update to Currently Effective Rates to be effective 1/4/2015; TOFC: 1000.

Filed Date: 2/4/15.

Accession Number: 20150204-5151.

Comments/Protests Due: 5 p.m. ET 2/25/15.

Docket Numbers: CP15-31-000.

Applicants: Consolidated Edison Company of New York, Inc.

Description: Notice cancelling rate for natural gas transportation service of Consolidated Edison Company of New York, Inc.

Filed Date: 12/16/14.

Accession Number: 20141216-5318.

Comments Due: 5 p.m. ET 2/19/15.

Docket Numbers: CP07-403-003.

Applicants: Gulf Crossing Pipeline Company LLC, et al.

Description: Abbreviated Joint Application Requesting Amendment of a Certificate of Public Convenience and Necessity of Gulf Crossing Pipeline Company LLC, et al.

Filed Date: 1/23/15.

Accession Number: 20150123-5300.

Comments Due: 5 p.m. ET 2/13/15.

Docket Numbers: CP07-398-007.

Applicants: Gulf Crossing Pipeline Company LLC, et al.

Description: Abbreviated Joint Application Requesting Amendment of a Certificate of Public Convenience and Necessity of Gulf Crossing Pipeline Company LLC, et al.

Filed Date: 1/23/15.

Accession Number: 20150123-5300.

Comments Due: 5 p.m. ET 2/13/15.

Docket Numbers: RP15-431-000.

Applicants: Rockies Express Pipeline LLC.

Description: Section 4(d) rate filing per 154.204: Neg Rate ConocoPhillips 2014-02-04 to be effective 2/4/2015.

Filed Date: 2/4/15.

Accession Number: 20150204-5073.

Comments Due: 5 p.m. ET 2/17/15.

Docket Numbers: RP15-432-000.

Applicants: Iroquois Gas Transmission System, L.P.

Description: Section 4(d) rate filing per 154.204: 02/04/15 Negotiated Rates—Mercuria Energy Gas Trading LLC (HUB) 7540-89 to be effective 2/3/2015.

Filed Date: 2/4/15.

Accession Number: 20150204-5077.

Comments Due: 5 p.m. ET 2/17/15.

Docket Numbers: RP15-433-000.

Applicants: Guardian Pipeline, L.L.C.

Description: Section 4(d) rate filing per 154.204: Negotiated Rate PAL Agreement—Koch Energy Services, LLC to be effective 2/11/2015.

Filed Date: 2/4/15.

Accession Number: 20150204-5125.

Comments Due: 5 p.m. ET 2/17/15.

Docket Numbers: RP15-434-000.

Applicants: Northwest Pipeline LLC.

Description: Section 4(d) rate filing per 154.204: 2015 Miscellaneous and Housekeeping Filing to be effective 4/1/2015.

Filed Date: 2/4/15.

Accession Number: 20150204-5160.

Comments Due: 5 p.m. ET 2/17/15.

Docket Numbers: RP15-435-000.

Applicants: Southern Star Central Gas Pipeline, Inc.

Description: Section 4(d) rate filing per 154.204: Vol 2—Expiration—Non-Conforming Agreement-Chesapeake Energy Marketing, Inc. to be effective 2/6/2015.

Filed Date: 2/5/15.

Accession Number: 20150205-5061.

Comments Due: 5 p.m. ET 2/17/15.

Docket Numbers: RP15-436-000.

Applicants: Rockies Express Pipeline LLC.

Description: Section 4(d) rate filing per 154.204: Neg Rate 2015-02-05 Tenaska IT to be effective 2/6/2015.

Filed Date: 2/5/15.

Accession Number: 20150205-5192.

Comments Due: 5 p.m. ET 2/17/15.

Docket Numbers: RP15-437-000.

Applicants: Iroquois Gas Transmission System, L.P.

Description: Section 4(d) rate filing per 154.204: 02/06/15 Negotiated Rates—Mercuria Energy Gas Trading LLC (HUB) 7540-89 to be effective 2/5/2015.

Filed Date: 2/6/15.

Accession Number: 20150206-5069.

Comments Due: 5 p.m. ET 2/18/15.

Docket Numbers: RP15-438-000.

Applicants: Iroquois Gas Transmission System, L.P.

Description: Section 4(d) rate filing per 154.204: 02/06/15 Negotiated Rates—ConEdison Energy Inc. (HUB) 2275-89 to be effective 2/5/2015.

Filed Date: 2/6/15.

Accession Number: 20150206-5099.

Comments Due: 5 p.m. ET 2/18/15.

Docket Numbers: RP15-439-000.

Applicants: Iroquois Gas Transmission System, L.P.

Description: Section 4(d) rate filing per 154.204: 02/06/15 Negotiated Rates—Sequent Energy Management (HUB) 3075-89 to be effective 2/5/2015.

Filed Date: 2/6/15.

Accession Number: 20150206-5108.

Comments Due: 5 p.m. ET 2/18/15.

Docket Numbers: RP15-440-000.

Applicants: Texas Gas Transmission, LLC.

Description: Section 4(d) rate filing per 154.204: New Firm and Interruptible Lateral Service (FLS and ILS) to be effective 4/1/2015.

Filed Date: 2/6/15.

Accession Number: 20150206-5197.

Comments Due: 5 p.m. ET 2/18/15.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP14-1272-002.

Applicants: National Grid LNG, LLC.

Description: Compliance filing per 154.203: Section 36 to be effective 3/1/2015 under RP14-1272 Filing Type: 580.

Filed Date: 2/6/15.

Accession Number: 20150206-5134.

Comments Due: 5 p.m. ET 2/18/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 9, 2015.
Nathaniel J. Davis, Sr.,
Deputy Secretary.

[FR Doc. 2015-03199 Filed 2-17-15; 8:45 am]

BILLING CODE 6717-01-P